DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Full Committee Meeting.

Time and Date: June 21, 2012, 9 a.m.-3:45 p.m. EST. June 22, 2012, 10 a.m.-3 p.m. EST.

Place: Double Tree Hilton Hotel Silver Spring, 8727 Colesville Road, Silver Spring, Maryland 20910. Tel: 1-301-589-5200.

Status: Open.

Purpose: At this meeting the Committee will hear presentations and hold discussions on several health data policy topics. On the morning of the first day the Committee will hear updates from the Department (HHS), the Centers for Medicare and Medicaid Services (CMS), and the Office of the National Coordinator (ONC). The agenda will also include discussion on items for approval: (1) Recommendation letter on collection of socioeconomic status data in HHS surveys; and (2) recommendation letter on Quality Measures that Matter to Patients. After lunch, an update will be given on NCVHS's new Working Group on HHS Data Access and Use, and the April 17-18, 2012 Privacy Subcommittee hearing.

The morning of the second day will include a review of the final action items discussed on the first day. After lunch, the Committee will discuss NCVHS's plans at the NCHS National Conference on Health Statistics; have a briefing on a Standards Subcommittee meeting; and hear subcommittee reports, strategic plans and discuss next steps. After the full Committee adjourns, the new Working Group on HHS Data Access and Use will convene to discuss work expectations and schedule; and summarize anticipated work products and logistical plans. Further information will be provided on the NCVHS Web site at http://www.ncvhs.hhs.gov/.

The times shown above are for the full Committee meeting. Subcommittee breakout sessions are scheduled for late in the afternoon on the first day and in the morning prior to the full Committee meeting on the second day. Agendas for these breakout sessions will be posted on the NCVHS Web site (URL below) when available.

Contact Person for More Information: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: June 1, 2012.
James Scanlon,
Deputy Assistant Secretary for Planning and Evaluation, Office of the Assistant Secretary for Planning and Evaluation.

[FR Doc. 2012-13987 Filed 6-7-12; 8:45 am]

BILLING CODE 4151-05-P